SECURITIES AND EXCHANGE COMMISSION

[Release No. 34-71655; File No. SR-NYSEMKT-2014-17]

Self-Regulatory Organizations; NYSE MKT LLC; Notice of Filing of Proposed Rule Change Adopting Rule 971.1NY for an Electronic Price Improvement Auction for Single-Leg Orders

March 5, 2014.

Correction

In notice document 2014-05179, appearing on pages 13711-13726, in the issue of Tuesday, March 11, 2014, make the following correction:

On page 13711, in the second column, the document heading is corrected to read as set forth above.

[FR Doc. C1-2014-05179 Filed 3-17-14; 8:45 am]

BILLING CODE 1505-01-D